LEGAL SERVICES CORPORATION

Notice and Request for Comments—LSC Merger of Service Areas in New Jersey

AGENCY: Legal Services Corporation.

ACTION: Notice and Request for Comments—LSC merger of the two service areas covering the southern and mid-eastern regions of New Jersey.

SUMMARY: The Legal Services Corporation (LSC) proposes to merge the two service areas that cover the seven counties of the southern region of New Jersey and two counties of the mid-eastern region of the state. Grants for these individual service areas have been awarded to South Jersey Legal Services (SJLS) since 2015. LSC proposes to merge the two service areas into one service area and to award one grant for the new combined service area. Doing so will harmonize the grant structure with the current delivery model.

DATES: All comments must be received on or before the close of business on March 15, 2017.

ADDRESSES: Written comments may be submitted to LSC by email to competition@lsc.gov (this is the preferred option); by submitting a form online at http://www.lsc.gov/contact-us; or by mail to Legal Services Corporation, 3333 K Street NW., Third Floor, Washington, DC 20007, Attention: Reginald J. Haley.

FOR FURTHER INFORMATION CONTACT: Reginald J. Haley, Office of Program Performance, Legal Services Corporation, 3333 K Street NW., Washington, DC 20007; or by email at haleyr@lsc.gov.

SUPPLEMENTARY INFORMATION: The mission of LSC is to promote equal access to justice and to provide funding for high-quality civil legal assistance to low-income persons. Pursuant to its statutory authority, LSC designates service areas in U.S. states, territories, possessions, and the District of Columbia for which it provides grants to legal aid programs to provide free civil legal services.

LSC provides grants through a competitive bidding process, which is regulated by 45 CFR part 1634. Since 2015, through the competitive bidding process, SJLS has been awarded funding for the NJ-12 service area that comprises the two counties in the mid-eastern region of New Jersey, i.e., Ocean and Monmouth counties. During that same period, SJLS has been awarded funding for the NJ-16 service area covering the seven counties in the southern region of the service area, i.e., Atlantic, Burlington, Camden, Cape May, Cumberland, Gloucester, and Salem counties. Beginning January 1, 2018, LSC proposes to merge the two service areas into a single service area and merge the 2018 grants for those service areas into a single grant.

The LSC Act charges LSC with ensuring that “grants and contracts are made so as to provide the most economical and effective delivery of legal assistance to persons in both urban and rural areas.” 42 U.S.C. 2996f(a)(3). Merging the two New Jersey service areas will provide an economical and effective delivery approach for serving the legal needs of the low-income population and will harmonize the grant structure with the current delivery model.

LSC invites public comment on this proposal. Interested parties may submit comments to LSC no later than the close of business on March 15, 2017. More information about LSC can be found at: http://www.lsc.gov.

Dated: February 8, 2017.
Stefanie K. Davis,
Assistant General Counsel.

[FR Doc. 2017-02855 Filed 2-10-17; 8:45 am]

BILLING CODE 7050-01-P